DEPARTMENT OF ENERGY

International Energy Agency Meetings

AGENCY: Department of Energy.

ACTION: Notice of Meetings.

SUMMARY: The Industry Advisory Board (IAB) to the International Energy Agency (IEA) will meet on December 3 and 4, 2007, at the headquarters of the IEA in Paris, France, in connection with a joint meeting of the IEA's Standing Group on Emergency Questions (SEQ) and the IEA's Standing Group on the Oil Market on December 3-4, and a meeting of SEQ on December 4.

DATES: December 3-4, 2007.

ADDRESSES: 9, rue de la Fédération, Paris, France.

FOR FURTHER INFORMATION CONTACT: Diana D. Clark, Assistant General for International and National Security Programs, Department of Energy, 1000 Independence Avenue, SW., Washington, DC 20585, 202-586-3417.

SUPPLEMENTARY INFORMATION: In accordance with section 252(c)(1)(A)(i) of the Energy Policy and Conservation Act (42 U.S.C. 6272(c)(1)(A)(i)) (EPCA), the following notice of meeting is provided:

Meetings of the Industry Advisory Board (IAB) to the International Energy Agency (IEA) will be held at the headquarters of the IEA, 9, rue de la Fédération, Paris, France, on December 3-4, 2007, beginning at 2:30 p.m. on December 3 and continuing on December 4 at 9:30 a.m. The purpose of this notice is to permit attendance by representatives of U.S. company members of the IAB at a joint meeting of the IEA's Standing Group on Emergency Questions (SEQ) and the IEA's Standing Group on the Oil Market (SOM) on December 3, and a meeting of the SEQ on December 4. The IAB will also hold a preparatory meeting among company representatives at the same location from 11 a.m. to approximately 12 noon on December 3. The agenda for this preparatory meeting is a review of the agenda of the SEQ/SOM meeting and a review of the agenda for an SEQ meeting to be held at the same location on December 4, 2007, beginning at 2:30 p.m. The SEQ meeting will be followed by a meeting organized by the SEQ of the Design Group for the SEQ's Emergency Response Exercise 4 (ERE4), to be held at the same location on December 5, 2007, beginning at 9:30 a.m., which meeting IAB members may also attend.

The agenda of the joint SEQ/SOM meeting on December 3 is under the control of the SEQ and the SOM. It is expected that the SEQ and the SOM will adopt the following agenda:

1. Adoption of the agenda of the joint SEQ/SOM session.

2. Approval of the Summary Record of the February 2007 joint SEQ/SOM session.

3. PART I: NEAR-TERM RISK ASSESSMENT WORKSHOP

• Introduction: ERE 4.

• Security risks in oil-producing countries.

• Physical oil supply outlook in the Middle East.

• Market dynamics during an oil disruption.

• Interaction between the various energy markets during an oil disruption.

• Discussion of possible scenarios.

4. PART II: STRENGTHENING GLOBAL OIL EMERGENCY RESPONSE CAPABILITIES

• Evolution of the IEA emergency response.

• Assessing a supply disruption from a market perspective.

• Sharing information in an emergency.

5. INTERACTING WITH CHINA AND INDIA.

6. Any other business and tentative dates of forthcoming SEQ/SOM sessions.

The agenda of the SEQ meeting on December 4, 2007 is under the control of the SEQ. It is expected that the SEQ will adopt the following agenda:

1. Adoption of the Agenda.

2. Approval of the Summary Record of the 120th Meeting.

3. Status of Compliance with IEP Stockholding Commitments.

4. Program of Work.

—The SEQ Program of Work for 2008.

5. Emergency Response Exercise 4.

—Report on Exercise in Capitals.

—Schedule for remainder of ERE4.

6. Report on Current Activities of the IAB.

7. Policy and Other Developments in Member Countries.

—Japan.

—Turkey.

—Poland.

—Slovak Republic.

8. Other Emergency Response Activities.

—Presentation of IEA publication “Oil Supply Security: Emergency Response of IEA Countries 2007”.

9. Activities with International Organizations and Non-Member Countries.

—European Commission.

—Office of Global Dialogue activities.

—Report on ASEAN workshop on oil stockholding.

—Report on development of oil security measures and strategic stockholding in China and India.

10. Documents for Information.

—Emergency Reserve Situation of IEA Member Countries on July 1, 2007.

—Emergency Reserve Situation of IEA Candidate Countries on July 1, 2007.

—Base Period Final Consumption: 3Q 2006-2Q 2007.

—Monthly Oil Statistics: August 2007.

—Update of Emergency Contacts List.

—Nominations for the Settlement Dispute Centre Panel of Arbitrators.

11. Other Business.

—Tentative dates of Next SEQ Meetings.

—March 17-20, 2008.

—June 24-26, 2008.

The agenda of the ERE4 Design Group meeting on December 5, 2007, starting at 9:30 a.m. is to discuss planning for ERE4.

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, November 19, 2007.
Diana D. Clark,
Assistant General Counsel for International and National Security Programs.

[FR Doc. E7-22764 Filed 11-20-07; 8:45 am]

BILLING CODE 6450-01-P